DEPARTMENT OF TRANSPORTATION

Federal Railroad Administration

Petition for Waiver of Compliance

In accordance with Part 211 of Title 49 Code of Federal Regulations (CFR), notice is hereby given that the Federal Railroad Administration (FRA) received a request for a waiver of compliance from certain requirements of its safety standards. The individual petition is described below, including the party seeking relief, the regulatory provisions involved, the nature of the relief being requested, and the petitioner's arguments in favor of relief.

New Jersey Transit Rail

[Docket Number FRA-2008-0097]

The New Jersey Transit Rail (NJ Transit) seeks a waiver of compliance from certain provisions of 49 CFR Part 218, Railroad Operating Practices. Specifically, NJ Transit is requesting a waiver of Blue Signal Requirements as prescribed in 49 CFR 218.29(c)(1) at their Morrisville Yard facility located in Morrisville, PA.

Equipment servicing and storage facilities (yards) on NJ Transit have often evolved from older facilities with limited area for expansion. Tack lengths are limited, while equipment consists have been lengthened to accommodate increased passenger ridership. Newer facilities are restricted by the cost or unavailability of required land. Therefore, at certain locations, track must typically be utilized to its capacity.

Morrisville Yard is a facility where the tracks are utilized to capacity. The current Mechanical Department workforce at this facility includes approximately 200 employees servicing approximately 30 trains per day. The allotted times for servicing equipment is restricted due to train availablity, time of day, and train scheduling requirements. Currently, there are 18 tracks utilized for inspection, servicing, and repair, which require Blue Signal Protection. The maximum track space on each track is being used to accommodate the current length of the train consists. A Transportation Department Yardmaster is responsible for controlling train movements within the facility, and to coordinate maintenance with the Mechanical Department. Since these 18 tracks are not under the control of the Mechanical Department, if a derail is used for the protection of workers, Federal law requires the derail to be placed 150 feet away from the equipment requiring Blue Signal Protection. This greatly restricts the train lengths that can be placed on these tracks. In addition, lining and locking a track switch away from the track being protected will restrict the amount of equipment that can be simultaneously inspected, serviced, or repaired.

NJ Transit believes that the current 5 mph speed limit in effect at the Morrisville facility along with positioning a locked derail 50 feet from the equipment being protected, as prescribed in § 218.29(a)(4), will provide effective Blue Signal Protection for employees working on the equipment. In addition, a Transportation Department Yardmaster is on duty 24 hours a day, seven days a week, to control train movements and coordinate maintenance activities with Mechanical Department Supervisors. NJ Transit Timetable Special Instructions restricts the speed of Morrisville facility tracks 1-18 to not more than 5 mph. NJ Transit declares that this waiver is needed to ensure timely inspections, servicing, and repairs to trains, so that they can meet the needs of their customers.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2008-0097) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on January 14, 2009.
Grady C. Cothen, Jr.,
Deputy Associate Administrator for Safety Standards and Program Development.

[FR Doc. E9-1222 Filed 1-21-09; 8:45 am]

BILLING CODE 4910-06-P